FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that will begin in January 2007. The Board expects to announce the selection of new members in early January.

DATES: Nominations must be received by August 25, 2006. Nominations not received by August 25 May not be considered.

ADDRESSES: Nominations must include a résumé for each nominee. Electronic nominations are preferred. The appropriate form can be accessed at: http://www.federalreserve.gov/forms/cacnominationform.cfm. If electronic submission is not feasible, the nominations can be mailed (not sent by facsimile) to Sheila Maith, Assistant Director and Community Affairs Officer, Division of Consumer and Community Affairs, Board of Governors of the Federal Reserve System, Washington, DC 20551.

FOR FURTHER INFORMATION CONTACT: Kyan Bishop, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 U.S.C. 1691(b)). Under the Rules of Organization and Procedure of the Consumer Advisory Council (12 CFR 267.3), members serve three-year terms that are staggered to provide the Council with continuity.

New members will be selected for terms beginning January 1, 2007, to replace members whose terms expire in December 2006. The Board expects to announce its appointment of new members in early January. Nomination letters should include:

• A résumé;

• Information about past and present positions held by the nominee, dates, and description of responsibilities;

• A description of special knowledge, interests, or experience related to community reinvestment, consumer protection regulations, consumer credit, or other consumer financial services;

• Full name, title, organization name, organization description for both the nominee and the nominator;

• Current address, telephone and fax numbers for both the nominee and the nominator; and

• Positions held in community organizations, and on councils and boards.

Individuals may nominate themselves.

The Board is interested in candidates who have familiarity with consumer financial services, community reinvestment, and consumer protection regulations, and who are willing to express their views. Candidates do not have to be experts on all levels of consumer financial services or community reinvestment, but they should possess some basic knowledge of the area. They must be able and willing to make the necessary time commitment to participate in conference calls, and prepare for and attend meetings three times a year (usually for two days, including committee meetings). The meetings are held at the Board's offices in Washington, DC. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2006, are:

Dennis L. Algiere, Senior Vice President, Compliance and Community Affairs, The Washington Trust Company, Westerly, Rhode Island

Sheila Canavan, Law Office of Sheila Canavan, Moab, Utah

Anne Diedrick, Senior Vice President, JPMorgan Chase Bank, New York, New York

Hattie B. Dorsey, President and Chief Executive Officer, Atlanta Neighborhood Development Partnership, Atlanta, Georgia

Bruce B. Morgan, Chairman, President and Chief Executive Officer, Valley State Bank, Roeland Park, Kansas

Mary Jane Seebach, Managing Director, Public Affairs, Countrywide Financial Corporation, Calabasas, California

Paul J. Springman, Chief Marketing Officer, Equifax, Atlanta, Georgia

Forrest F. Stanley, Senior Vice President and Deputy General Counsel, KeyBank National Association, Cleveland, Ohio

Lori R. Swanson, Solicitor General, Office of the Minnesota Attorney General, St. Paul, Minnesota

Council members whose terms continue through 2006 and 2007 are:

Stella Adams, Executive Director, North Carolina Fair Housing Center, Durham, North Carolina

Faith Anderson, Vice President—Legal & Compliance and General Counsel, American Airlines Federal Credit Union, Fort Worth, Texas

Dorothy Bridges, Chief Executive Officer and President, Franklin National Bank of Minneapolis, Minneapolis, Minnesota

Tony T. Brown, President and Chief Executive Officer, Uptown Consortium, Inc., Cincinnati, Ohio

Carolyn Carter, Attorney, National Consumer Law Center, Boston, Massachusetts

Michael Cook, Vice President and Assistant Treasurer, Wal-Mart Stores, Inc., Bentonville, Arkansas

Donald S. Currie, Executive Director, Community Development Corporation of Brownsville, Brownsville, Texas

Kurt Eggert, Associate Professor of Law and Director of Clinical Legal Education, Chapman University School of Law, Orange, California

Deborah Hickok, Vice President, MoneyGram Payment Systems, Inc., Ooltewah, Tennessee

Sarah Ludwig, Director, Neighborhood Economic Development Advocacy Project, New York, New York

Mark K. Metz, Senior Vice President and Deputy General Counsel, Wachovia Corporation, Charlotte, North Carolina

Lance Morgan, President, Ho-Chunk, Incorporated, Winnebago Tribe of Nebraska, Winnebago, Nebraska

Joshua Peirez, Senior Vice President and Associate General Counsel, MasterCard International, Purchase, New York

Anna McDonald Rentschler, BSA/AML Officer, Central Bancompany, Jefferson City, Missouri

Faith Arnold Schwartz, Senior Vice President, Government, Housing and Industry, Option One Mortgage Corporation, Washington, District of Columbia

Edward Sivak, Director of Policy and Evaluation, Enterprise Corporation of the Delta, Jackson, Mississippi

Lisa Sodeika, Senior Vice President—Corporate Affairs, HSBC North America Holdings Inc., Prospect Heights, Illinois

Anselmo Villarreal, Executive Director, LaCasa de Esperanza, Inc., Waukesha, Wisconsin

Alan White, Supervising Attorney, Community Legal Services, Philadelphia, Pennsylvania

Marva E. Williams, Senior Vice President, Woodstock Institute, Chicago, Illinois

Board of Governors of the Federal Reserve System, June 12, 2006.
Jennifer J. Johnson,
Secretary of the Board.

[FR Doc. E6-9336 Filed 6-14-06; 8:45 am]

BILLING CODE 6210-01-P